DEPARTMENT OF HEALTH AND HUMAN SERVICES

Centers for Disease Control and Prevention

National Institute for Occupational Safety and Health Advisory Board on Radiation and Worker Health

In accordance with section 10(a)(2) of the Federal Advisory Committee Act (Pub. L. 92-463), the Centers for Disease Control and Prevention (CDC) announces the following committee meeting:

Name: Advisory Board on Radiation and Worker Health (ABRWH), and Subcommittee for Dose Reconstruction and Site Profile Reviews, National Institute for Occupational Safety and Health (NIOSH).

Subcommittee Meeting Time and Date: 8:30 a.m.-12 p.m., February 7, 2005.

Committee Meeting Times and Dates: 1 p.m.-5 p.m., February 7, 2005. 8 a.m.-4:45 p.m., February 8, 2005. 7 p.m.-8:30 p.m., February 8, 2005. 8:30 a.m.-4:30 p.m., February 9, 2005.

Place: Adam's Mark St. Louis, 4th and Chestnut Street, St. Louis, Missouri 63102, telephone 314-241-7400, fax 314-241-9839.

Status: Open to the public, limited only by the space available. The meeting space accommodates approximately 500 people.

Background: The ABRWH was established under the Energy Employees Occupational Illness Compensation Program Act (EEOICPA) of 2000 to advise the President, delegated to the Secretary of Health and Human Services (HHS), on a variety of policy and technical functions required to implement and effectively manage the new compensation program. Key functions of the Board include providing advice on the development of probability of causation guidelines which have been promulgated by HHS, as a final rule, advice on methods of dose reconstruction which have also been promulgated by HHS, as a final rule, advice on the scientific validity and quality of dose estimation and reconstruction efforts being performed for purposes of the compensation program, and advice on petitions to add classes of workers to the Special Exposure Cohort (SEC).

In December 2000 the President delegated responsibility for funding, staffing, and operating the Board to HHS, which subsequently delegated this authority to the CDC. NIOSH implements this responsibility for CDC. The charter was issued on August 3, 2001, and renewed on August 3, 2003.

Purpose: This board is charged with (a) providing advice to the Secretary, HHS on the development of guidelines under Executive Orders 13179; (b) providing advice to the Secretary, HHS on the scientific validity and quality of dose reconstruction efforts performed for this Program; and (c) upon request by the Secretary, HHS, advise the Secretary on whether there is a class of employees at any Department of Energy facility who were exposed to radiation but for whom it is not feasible to estimate their radiation dose, and on whether there is reasonable likelihood that such radiation doses may have endangered the health of members of this class.

Matters To Be Discussed: Agenda for this meeting will focus on Program Status Reports from NIOSH and the Department of Labor; Site Profile Review of Bethlehem Steel; Task 3 Procedures Review; Site Profile Review of Mallinckrodt (Destrehan Street Facility); Travel Policy; Status Report of SC&A Task Orders and Costs; SEC Petition Evaluation Report—Mallinckrodt to include NIOSH Reports and Recommendations and Petitioners Comments on Report; Subcommittee Report & Board Discussion on First Set of Case Reviews; SEC Petition Evaluation Report—Iowa Army Ammunition Plant (IAAP) to include NIOSH Reports and Recommendations and Petitioners Comments on Report; and Board working sessions. There will be an evening public comment period scheduled for February 8, 2005, and public comment periods on all meeting days.

The Subcommittee for Dose Reconstruction and Site Profile Reviews will convene on February 7, 2005, from 8:30 a.m.-12 p.m. and will focus on review of draft minutes; discussion of Case Sampling Matrix, Summary of First Set of Case Reviews/Preparation of Recommendation for Full Board and selection of Third Set of Individual Dose Reconstruction Cases for Board Review.

The agenda is subject to change as priorities dictate. In the event an individual cannot attend, written comments may be submitted. Any written comments received will be provided at the meeting and should be submitted to the contact person below well in advance of the meeting.

FOR FURTHER INFORMATION CONTACT: Larry Elliott, Executive Secretary, ABRWH, NIOSH, CDC, 4676 Columbia Parkway, Cincinnati, Ohio 45226, telephone 513/533-6825, fax 513/533-6826.

The Director, Management Analysis and Services Office, has been delegated the authority to sign Federal Register notices pertaining to announcements of meetings and other committee management activities for both CDC and the Agency for Toxic Substances and Disease Registry.

Dated: January 10, 2005.
Alvin Hall,
Director, Management Analysis and Services Office, Centers for Disease Control and Prevention.

[FR Doc. 05-781 Filed 1-13-05; 8:45 am]

BILLING CODE 4163-19-M